DEPARTMENT OF THE INTERIOR

National Park Service

Official National Underground Railroad Network to Freedom Symbol

SUMMARY: This notice establishes the official National Park Service symbol with the incorporating words “National Underground Railroad Network to Freedom” carrying out the provisions of the National Underground Railroad Network to Freedom Act.

DATES: This action is effective upon publication of this notice in the Federal Register.

FOR FURTHER INFORMATION CONTACT: Diane Miller, National Coordinator, National Underground Railroad Network to Freedom Program, 1709 Jackson Street, Omaha, Nebraska 68102, telephone 402-221-3749.

SUPPLEMENTARY INFORMATION: The National Park Service has designated an official National Park Service symbol with the words “National Underground Railroad Network to Freedom” fulfilling the mandate of the National Underground Railroad Network to Freedom Act. You may obtain a copy of the image incorporating the words “National Underground Railroad Network to Freedom” from the National Coordinator at the address listed above. Notice is given that whoever manufactures, sells, or possesses this symbol embossed image, or any colorable imitation thereof, or photographs, prints or in any other manner makes or executes any engraving photograph or print, or impression in the likeness of this symbol, or any colorable imitation thereof, without authorization from the United States Department of the Interior is subject to the penalty provisions of section 701, title 18 of the United States Code.

Dated: February 15, 2002.
William W. Schenk,
Regional Director, Midwest Region.

[FR Doc. 02-8632 Filed 4-9-02; 8:45 am]

BILLING CODE 4310-70-P